DEPARTMENT OF COMMERCE

International Trade Administration

[C-570-968]

Aluminum Extrusions From the People's Republic of China: Notice of Correction to Final Results of Countervailing Duty Administrative Review; 2018

AGENCY: Enforcement and Compliance, International Trade Administration, Department of Commerce.

SUMMARY: The Department of Commerce (Commerce) is issuing a correction to the previously published Federal Register notice of the final results of the countervailing duty administrative review on aluminum extrusions from the People's Republic of China (China) covering the period January 1, 2018, through December 31, 2018, which inadvertently omitted certain companies.

DATES: Applicable February 8, 2021.

FOR FURTHER INFORMATION CONTACT: Davina Friedmann, AD/CVD Operations, Office VI, Enforcement and Compliance, International Trade Administration, U.S. Department of Commerce, 1401 Constitution Avenue NW, Washington, DC 20230; telephone: (202) 482-0698.

SUPPLEMENTARY INFORMATION:

Correction

On January 22, 2021, Commerce published the Final Results in the Federal Register.¹ The Final Results covered nine companies under administrative review and intended to convey the final subsidy rates assigned to all nine companies in a rates table.² However, Commerce inadvertently omitted from the rates table three of the nine companies to which it assigned final subsidy rates.³ Those companies are: Shanyang Yuanda Aluminum Industry Engineering Co. Ltd. (Shenyang Yuanda); Summit Heat Sinks Metal Co, Ltd. (Summit); and Wenzhou Yongtai Electric Co. Ltd. (Wenzhou Yongtai).⁴ In the Final Results Commerce made no changes to its preliminary results, and thus continued to assign the rate of 242.15 percent, based on adverse facts available, to these three companies, which are included in the rates table listed below.⁵

¹ See Aluminum Extrusions from the People's Republic of China: Final Results of the Countervailing Duty Administrative Review and Rescission of Review, in Part, 2018, 86 FR 6630 (January 22, 2021) (Final Results).

² Id., 86 FR at 6631.

³ Id; see also Aluminum Extrusions from the People's Republic of China: Final Results of the Countervailing Duty Administrative Review, Rescission of Review, in Part, and Intent to Rescind, in Part; 2018, 85 FR 47349 (August 5, 2020) (Preliminary Results).

⁴ See Preliminary Results, 85 FR at 47350.

⁵ See Final Results, 86 FR at 6630; see also Preliminary Results, 85 FR at 47351.

With this notice, we are hereby correcting the Final Results by providing the complete rates table for all nine companies, which restates the subsidy rates for six of the nine companies and includes the additional three companies that were inadvertently omitted from the rates table in the Final Results (i.e., Shenyang Yuanda, Summit, and Wenzhou Yongtai).

Corrected Final Results of Administrative Review

As stated in the Final Results, and in accordance with 19 CFR 351.221(b)(5), we determine the following final net subsidy rates for the 2018 administrative review: ⁶

⁶ See Preliminary Results; see also Memorandum, “Administrative Review of Countervailing Duty Order on Aluminum Extrusions from the People's Republic of China: AFA Calculation Memorandum for the Preliminary Results of Review; 2018,” dated August 28, 2020.

Company | Final ad valorem rate (percent)
Activa International Inc | 242.15
Changzou Tenglong Auto Parts Co. Ltd | 16.08
CRRC Changzhou Auto Parts Co. Ltd | 242.15
Dongguan Aoda Aluminum Co. Ltd | 16.08
Guangdong Xingfa Aluminum Co., Ltd | 242.15
Precision Metal Works Ltd | 242.15
Shenyang Yuanda Aluminum Industry Engineering Co. Ltd ⁷ | 242.15
Summit Heat Sinks Metal Co, Ltd ⁸ | 242.15
Wenzhou Yongtai Electric Co. Ltd ⁹ | 242.15

This notice serves as a correction to the Final Results and is published in accordance with 751(a) and 777(i) of the Tariff Act of 1930, as amended.

⁷ This company was inadvertently omitted from the rates table in the Final Results.

⁸ Id.

⁹ Id.

Dated: February 1, 2021.
Christian Marsh,
Acting Assistant Secretary for Enforcement and Compliance.

[FR Doc. 2021-02528 Filed 2-5-21; 8:45 am]

BILLING CODE 3510-DS-P